DEPARTMENT OF COMMERCE

National Oceanic and Atmospheric Administration

RIN 0648-XC459

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Ecosystem and Ocean Planning Committee will hold public meetings.

DATES: The meetings will be held February 12, 2013, through February 14, 2013. For specific dates, times, and agenda, see SUPPLEMENTARY INFORMATION.

ADDRESSES: Embassy Suites Hampton Roads, 1700 Coliseum Drive, Hampton, VA 23666; telephone: (757) 827-8200.

Council Address: Mid-Atlantic Fishery Management Council, 800 N. State St., Suite 201, Dover, DE 19901; telephone: 302-674-2331.

FOR FURTHER INFORMATION CONTACT: Christopher M. Moore, Ph.D. Executive Director, Mid-Atlantic Fishery Management Council; telephone: 302-526-5255.

SUPPLEMENTARY INFORMATION:

Dates, Times, and Agenda

On Tuesday, February 12—The Ecosystem and Ocean Planning Committee will meet from 10 a.m. until 12 p.m. The Council will convene at 1 p.m. Amendment 15 to the Mackerel, Squid, and Butterfish Fishery Management Plan (FMP) will be reviewed from 1 p.m. until 2:30 p.m. A Butterfish and Climate Change presentation will be held from 2:30 p.m. until 3:30 p.m. The Standard Bycatch Reporting Methodology Report will be from 3:30 p.m. until 4:30 p.m. A Marine Recreation Information Program update will be held from 4:30 p.m. until 5 p.m. A Listening Session will be held from 5 p.m. until 6 p.m.

On Wednesday, February 13—The Council will convene at 9 a.m. From 9 a.m. until 10 a.m. there will be a North East Area Monitoring and Assessment Program presentation. Black Sea Bass Catch Limits for 2013 and 2014 will be discussed from 10 a.m. until 11:45 a.m. The Ricks E Savage Award will be presented from 11:45 a.m. until 12 p.m. The Omnibus Amendment for Recreational Accountability Measures will be discussed from 1 p.m. until 2:30 p.m. Special Management Zones (SMZs) will be discussed from 2:30 p.m. until 3:30 p.m. There will be a Bureau of Ocean Energy Management Presentation from 3:30 p.m. until 4 p.m. From 4 p.m. until 5 p.m. there will be a Scoping Hearing for the Deep Sea Corals Amendment.

On Thursday February 14—A presentation on the new Council Web site will be held from 9 a.m. until 9:30 a.m. The Council will hold its regular Business Session from 9 a.m. until 1 p.m. to approve the December 2012 minutes, receive Organizational Reports, the New England and South Atlantic Liaison Report, the Executive Director's Report, the Science Report; Committee Reports, and conduct any continuing and/or new business.

Agenda items by day for the Council's Committees and the Council itself are:

On Tuesday, February 12—The Ecosystem and Ocean Planning Committee will review the scoping document for Amendment 16 to the Mackerel, Squid, and Butterfish Fishery Management Plan (Deep Sea Corals Amendment) and review alternatives to be included in the Amendment. The Council will review the FMAT's progress and approach to alternative development for Amendment 15 to the Mackerel, Squid, and Butterfish Fishery Management Plan. A presentation will be provided to the Council on climate change, thermal habitat dynamics and systematic changes in habitat coverage bias in assessment surveys along with a case study of butterfish and some possible solutions. The Council will review and approve a draft environmental assessment for the Standard Bycatch Reporting Methodology Omnibus Amendment. The Council will receive an update on the Marine Recreational Information Program. The Council will hold a public listening session.

On Wednesday, February 13—The Council will hear a presentation regarding the North East Area Monitoring and Assessment Program. The Council will review the SSC Report in response to a Council request to clarify the 2013 and 2014 Black Sea Bass Acceptable Biological Catch and review the 2013 catch limits if appropriate and adopt 2014 catch limits. The Council will present the Ricks E Savage Award. The Council will review and approve alternatives to be included in the Omnibus Amendment regarding recreational accountability measures. The Council will review public hearings comments on options for designating Delaware's permitted reef sites in the EEZ and SMZs and develop recommendations to the Regional Administrator. The Council will receive a presentation from the Bureau of Ocean Energy Management. There will be a Public scoping hearing for Amendment 16 to the Mackerel, Squid, and Butterfish FMP (Deep Sea Corals).

On Thursday, February 14—The Council will hold its regular Business Session to approve the December 2012 minutes, receive Organizational Reports, the New England and South Atlantic Liaison Report; the Executive Director's Report, Science Report, Committee Reports, and conduct any continuing and/or new business.

Special Accommodations

This meeting is physically accessible to people with disabilities. Requests for sign language interpretation or other auxiliary aid should be directed to M. Jan Saunders (302-526-5251) at least five days prior to the meeting date.

Authority: 16 U.S.C. 1801 et seq.

Dated: January 22, 2013.
Tracey L. Thompson,
Acting Deputy Director, Office of Sustainable Fisheries, National Marine Fisheries Service.

[FR Doc. 2013-01504 Filed 1-24-13; 8:45 am]

BILLING CODE 3510-22-P